DEPARTMENT OF JUSTICE

Notice of Lodging of Proposed Consent Decree Under the Comprehensive Environmental Response, Compensation, and Liability Act

On December 4, 2012, the Department of Justice lodged a proposed Consent Decree with the United States District Court for the District of Puerto Rico in the lawsuit entitled United States v. Commonwealth of Puerto Rico, Puerto Rico Land Authority, Puerto Rico Housing Department, and Puerto Rico Electric Power Authority, Civil Action No. 3:12-cv-01988.

The proposed Consent Decree memorializes a proposed settlement between the United States and Commonwealth of Puerto Rico, Puerto Rico Land Authority, Puerto Rico Housing Department, and Puerto Rico Electric Power Authority (“Settling Defendants”), with respect to the Vega Baja Solid Waste Disposal Superfund Site (“Site”) for injunctive relief pursuant to Section 106(a) of the Comprehensive Environmental Response, Compensation, and Liability Act of 1980, as amended (“CERCLA”), 42 U.S.C. 9606(a), response costs incurred by the United States pursuant to Section 107(a) of CERCLA, 42 U.S.C. 9607(a), and future response costs that may be incurred by the Plaintiff at the Site in the future, pursuant to Section 113(g)(2) of CERCLA, 42 U.S.C. 9613(g)(2).

The proposed settlement provides for the Settling Defendants to: (1) Pay $2,300,000 towards past costs; (2) conduct operation and maintenance (“O&M”) of the remedy at the Site (3) implement institutional controls (“ICs”); and (4) pay EPA's future response costs related to overseeing Settling Defendants' implementation of the O&M and ICs.

The publication of this notice starts a period for public comment on the Consent Decree. Comments should be addressed to the Assistant Attorney General, Environment and Natural Resources Division, and should refer to United States v. Commonwealth of Puerto Rico, Puerto Rico Land Authority, Puerto Rico Housing Department, and Puerto Rico Electric Power Authority, D.J. Ref. No. 90-11-3-07244/1. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, D.C. 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $11.25 (25 cents per page reproduction cost) payable to the United States Treasury.

Ronald G. Gluck,
Assistant Section Chief, Environmental Enforcement Section, Environment and Natural Resources Division.

[FR Doc. 2012-29711 Filed 12-7-12; 8:45 am]

BILLING CODE 4410-15-P